DEPARTMENT OF THE INTERIOR

Bureau of Land Management

[WO-09310-091310-09PB-0901-0924 1A]

Extension of Approved Information Collection, OMB Approval Number 1004-090160

AGENCY: Bureau of Land Management, Interior.

ACTION: Notice and request for comments.

SUMMARY: In accordance with the Paperwork Reduction Act of 1995, the Bureau of Land Management (BLM) announces its intention to request extension of an existing approval to collect certain information from lessees who submit a Geothermal Leasing Report. BLM uses the information to determine if a lessee qualifies for a lease extension. The implementing regulations are found at (43 CFR 3208).

DATES: You must submit your comments to BLM at the appropriate address below on or before February 20, 2001. BLM will not necessarily consider any comments received after the above date.

ADDRESSES: Comments may be mailed to: Regulatory Affairs Group (630), Bureau of Land Management, 1849 C Street NW., Room 401LS, Washington, DC 20240.

Comments may be sent via Internet to: WOComment@blm.gov. Please include “ATTN: 1004-0160” and your name and return address in your Internet message.

Comments may be hand-delivered to the Bureau of Land Management, Administrative Record, Room 401, 1620 L Street, NW., Washington, DC.

Comments will be available for public review at the L Street address during regular business hours (7:45 a.m. to 4:15 p.m.), Monday through Friday.

FOR FURTHER INFORMATION CONTACT: You may contact Barbara Gamble on (202) 452-0338 (Commercial or FTS). Persons who use a telecommunications device for the deaf (TDD) may call the Federal Information Relay Service at 1-800-877-8330, 24 hours a day, seven days a week, to contact Ms. Gamble.

SUPPLEMENTARY INFORMATION: 5 CFR 1320.12(a) requires BLM to provide 60-day notice in the Federal Register concerning a collection of information contained in regulations in 43 CFR 3208 to solicit comments on (a) whether the proposed collection of information is necessary for the proper performance of the functions of the agency, including whether the information will have practical utility; (b) the accuracy of the agency's estimate of the burden of the proposed collection, including the validity of the methodology and assumptions used; (c) ways to enhance the quality, utility, and clarity of the information to be collected; and (d) ways to minimize the burden of the collection of information on those who are to respond, including through the use of appropriate automated, electronic, mechanical, or other technological collection techniques or other forms of information technology. BLM will receive and analyze any comments sent in response to this notice and include them with its request for approval from the Office of Management and Budget under 44 U.S.C. 3501 et.seq.

The Geothermal Steam Act of 1970 (30 U.S.C. 1001-1025) authorized the Secretary of the Interior to issue leases for geothermal development. The Geothermal Steam Act Amendments of 1988 (Pub. L. 100-443) supplemented and amended the Geothermal Steam Act of 1970. BLM requires geothermal lessees to submit additional information under this law. The legislation allows for lease extensions when the Secretary of the Interior determines a lessee made a substantial investment to develop the geothermal resources. It will also allow leases to continue beyond the primary terms if there are wells capable of producing geothermal resources. The regulations at 43 CFR 3208 specifically address extended lease terms.

Lessees may request a lease extension beyond the primary term by: drilling, diligent efforts, production of byproducts, and unit commitment. Lessees provide the required information in a report to BLM. BLM uses the information to determine if a lessee qualifies to extend their lease.

Based on BLM's experience administering the activities described above, we estimate the public reporting burden for the information collected to average two (2) hours per response. The respondents include individuals, small businesses, and large corporations. The frequency of response is annual. The estimated number of responses per year is 75. The estimated total annual burden is 150 hours. BLM specifically requests your comments on its estimate of the amount of time that it takes to prepare a response.

BLM will summarize all responses to this notice and include them in the request for Office of Management and Budget approval. All comments will also become a matter of public record.

Dated: December 18, 2000.
Michael Schwartz,
BLM Information Collection Clearance Officer.

[FR Doc. 00-32655 Filed 12-21-00; 8:45 am]

BILLING CODE 4310-84-M